ENVIRONMENTAL PROTECTION AGENCY

40 CFR Part 52

[EPA-R09-OAR-2023-0626; FRL-11614-03-R9]

Air Plan Disapproval; California; Los Angeles-South Coast Air Basin; 1997 8-Hour Ozone; Extension of Comment Period

AGENCY: Environmental Protection Agency (EPA).

ACTION: Proposed rule; extension of comment period.

SUMMARY: The Environmental Protection Agency (EPA) is extending the comment period for a proposed rule published February 2, 2024. The current comment period for the proposed rule was set to end on March 4, 2024. In response to requests from several commenters, the EPA is extending the comment period for the proposed action to April 3, 2024.

DATES: The comment period for the proposed rule published on February 2, 2024, at 89 FR 7320 is extended. Comments must be received on or before April 3, 2024.

ADDRESSES: Submit your comments, identified by Docket ID No. EPA-R09-OAR-2023-0626 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: Ginger Vagenas, EPA Region IX, 75 Hawthorne St., San Francisco, CA 94105. By phone: (415) 972-3964 or by email at vagenas.ginger@epa.gov.

SUPPLEMENTARY INFORMATION: On February 2, 2024, the EPA published a proposal to disapprove a state implementation plan revision submitted by the State of California to meet Clean Air Act (CAA) requirements for the 1997 8-hour ozone national ambient air quality standards (NAAQS) in the Los Angeles-South Coast Air Basin, California ozone nonattainment area. This submission, titled “Final Contingency Measure Plan—Planning for Attainment of the 1997 80 ppb 8-hour Ozone Standard in the South Coast Air Basin,” addresses the CAA requirements for the submission of contingency measures that will be implemented if emissions reductions from anticipated technologies associated with the area's 1997 ozone NAAQS attainment demonstration are not achieved. For more detailed information about this matter, please refer to the February 2, 2024 Federal Register document.

The notice of proposed rulemaking initially provided for comments to be submitted to the EPA on or before March 4, 2024 (a 30-day public comment period). The EPA received several comments requesting an extension of the comment period. To ensure the public has sufficient time to evaluate the proposal and develop comments, the EPA is extending the comment period until April 3, 2024.

Dated: February 23, 2024.
Matthew Lakin,
Acting Director, Air and Radiation Division, Region IX.

[FR Doc. 2024-04287 Filed 2-29-24; 8:45 am]

BILLING CODE 6560-50-P